DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 19, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Jackson Parish, Louisiana and Incorporated Areas
Docket No.: FEMA-B-1909
Town of Chatham | Town Hall, 1709 Oak Street, Chatham, LA 71226.
Town of Eros | Town Hall, 9890 State Highway 34, Eros, LA 71238.
Town of Jonesboro | Town Hall, 128 Allen Avenue, Jonesboro, LA 71251.
Unincorporated Areas of Jackson Parish | Jackson Parish Court House, 500 East Court Street, Room 301, Jonesboro, LA 71251.
Village of Hodge | Village Hall, 406 West Central Street, Hodge, LA 71247.
Village of North Hodge | Town Hall, 5204 Quitman Highway, North Hodge, LA 71247.
Village of Quitman | Village Hall, 8255 Quitman Highway, Quitman, LA 71268.
Winn Parish, Louisiana and Incorporated Areas
Docket No.: FEMA-B-1909
City of Winnfield | City Hall, 120 East Main Street, Winnfield, LA 71483.
Town of Tullos | Town Hall, 9887 Main Street, Tullos, LA 71479.
Unincorporated Areas of Winn Parish | Winn Parish Courthouse, 119 West Main Street, Winnfield, LA 71483.
Village of Atlanta | Village Hall, 176 Collier Street, Atlanta, LA 71404.
Village of Calvin | Village Hall, 459 Elliott Avenue, Calvin, LA 71410.
Village of Dodson | Village Hall, 205 Gresham Street, Dodson, LA 71422.
Village of Sikes | Village Hall, 212 2nd Street, Sikes, LA 71473.
King County, Washington and Incorporated Areas
Docket Nos.: FEMA-B-1340, B-1356 and B-1806
City of Auburn | City Hall Annex, Planning and Development Department, Permit Center, 1 East Main Street, 2nd Floor, Auburn, WA 98001.
City of Bellevue | City Hall, 450 110th Avenue Northeast, Bellevue, WA 98004.
City of Bothell | City Hall, 18415 101st Avenue Northeast, Bothell, WA 98011.
City of Burien | City Hall, 400 Southwest 152nd Street, Suite 300, Burien, WA 98166.
City of Des Moines | City Hall, Development Services Division, Planning & Building Department, 21630 11th Avenue South, Suite D, Des Moines, WA 98198.
City of Federal Way | City Hall, 33325 8th Avenue South, Federal Way, WA 98003.
City of Kenmore | City Hall, 18120 68th Avenue Northeast, Kenmore, WA 98028.
City of Kent | City Hall, 220 Fourth Avenue South, Kent, WA 98032.
City of Kirkland | City Hall, 123 5th Avenue, Kirkland, WA 98033.
City of Normandy Park | City Hall, 801 Southwest 174th Street, Normandy Park, WA 98166.
City of Redmond | City Hall, 15670 Northeast 85th Street, Redmond, WA 98052.
City of Renton | City Hall, 1055 South Grady Way, Renton, WA 98057.
City of Seattle | Department of Construction and Inspections, 700 5th Avenue, Suite 2000, Seattle, WA 98104.
City of Shoreline | City Hall, Planning & Community Development Department, 17500 Midvale Avenue North, Shoreline, WA 98133.
City of Tukwila | Public Works Department, 6300 Southcenter Boulevard, Tukwila, WA 98188.
City of Woodinville | City Hall, 17301 133rd Avenue Northeast, Woodinville, WA 98072.
Muckleshoot Indian Tribe | Philip Starr Building, 39015 172nd Avenue Southeast, Auburn, WA 98092.
Unincorporated Areas of King County | Department of Natural Resources and Parks, Water and Land Resources Division, 201 South Jackson Street, Suite 600, Seattle, WA 98104.

[FR Doc. 2020-10104 Filed 5-11-20; 8:45 am]

BILLING CODE 9110-12-P